POSTAL SERVICE

New Mailing Standards for Lithium Batteries

AGENCY: Postal Service™.

ACTION: Notice.

SUMMARY: The Postal Service will revise Publication 52, Hazardous, Restricted, and Perishable Mail (Publication 52), in various sections to provide new standards for the mailing of lithium batteries. Publication 52 was developed to provide expanded requirements for the mailing of hazardous, restricted, and perishable materials.

DATES: Effective date: March 2, 2015.

FOR FURTHER INFORMATION CONTACT: Joan Hall (212) 330-5332 or Kevin Gunther (202) 268-7208.

SUPPLEMENTARY INFORMATION:

Overview

U.S. Postal Service® Publication 52 provides mailing standards specific to hazardous, restricted and perishable items and materials. Pursuant to the Mailing Standards of the United States Postal Service, Domestic Mail Manual (DMM®) 601.8.2, Publication 52 applies to the mailability of hazardous materials, including lithium batteries.

Revisions to Publication 52

The Postal Service is making these revisions in order to align with the Department of Transportation (DOT), Pipeline and Hazardous Materials Safety Administration (PHMSA) recent changes to regulations for the transportation of lithium batteries.

On August 6, 2014, PHMSA issued a final rule (79 FR 46012-46040) titled “Hazardous Materials: Transportation of Lithium Batteries” in which it describes new requirements governing the shipment of lithium cells and batteries for both air and surface transportation. In this final rule, PHMSA revises hazard communication and packaging provisions for lithium batteries and harmonizes the Hazardous Materials Regulations (HMR) with applicable provisions of the United Nations (UN) Model Regulations, the International Civil Aviation Organization's Technical Instructions for the Safe Transport of Dangerous Goods by Air (ICAO Technical Instructions) and the International Maritime Dangerous Goods (IMDG) Code.

With these revisions, the Postal Service aligns with PHMSA and the other regulatory entities noted above with regard to:

1. Use of terminology describing lithium content with watt-hours for lithium-ion cells and batteries;

2. Adoption of separate shipping descriptions for lithium metal batteries and lithium-ion batteries;

3. New requirements for the transport of small lithium cells and batteries contained in equipment; and

4. New marking requirements and options for lithium batteries installed in equipment packaged with equipment and shipped without equipment.

In the development of mailing standards for lithium cells and batteries in air transportation, the Postal Service aligns with PHMSA regulations applicable to passenger aircraft, as Postal Service products eligible for transportation by air continue to have the potential to be placed on passenger aircraft.

Definitions

The Postal Service also adds a new definitions section and revises its terminology with regard to lithium cells and batteries to better reflect what is commonly used in the industry and by other regulatory agencies.

International

The Postal Service clarifies that labels commonly used with other transportation providers are not permitted on mailpieces containing lithium batteries installed in equipment, when these mailpieces are intended for international mail. It has been a common practice for some high volume lithium battery shippers to preprint DOT-approved lithium battery handling labels on all of their packaging, including those intended for international mail. When mailing to international destinations, including APO/FPO/DPO (Army Post Office, Fleet Post Office, Diplomatic Post Office) destinations, mailpieces containing lithium batteries installed in equipment must not include any markings or labels that identify the mailpiece contents as lithium batteries. The Postal Service also defines a category of very small lithium metal and lithium-ion cells and batteries that, when installed in the equipment they operate, are mailable in international mail without regard to quantity.

Quantities

With this revision, the Postal Service will not require markings or documentation for parcels containing button cell lithium batteries installed in equipment (including circuit boards) or no more than four (4) lithium cells or two (2) lithium batteries installed in equipment. For these shipments, the Postal Service will allow the optional use of an applicable DOT-approved lithium battery handling labels in either domestic air or surface transportation. The Postal Service will require markings and documentation as described in this final rule for lithium batteries installed in equipment in domestic air transportation when the number of cells exceeds four (4) up to the allowable limit for air transportation of eight (8) cells.

The Postal Service will continue to allow mailings of lithium metal or lithium-ion batteries packaged with the equipment they operate, and lithium-ion batteries packaged without equipment (individual batteries) in domestic air transportation. In these instances, mailpieces must not contain more than eight (8) lithium cells or two (2) batteries. Cells and batteries must be within the applicable USPS limitations for lithium metal content or watt-hour rating, and mailpieces must bear markings and be accompanied by documentation as described below. Mailers should also note that for the purposes of mailability, when a limitation of eight (8) cells or two (2) batteries is applicable, the mailpiece is restricted to a maximum of either 8 cells or 2 batteries, not both.

Markings

In addition to the marking requirements currently described in Publication 52, lithium cells or batteries mailed with (but not installed in) equipment or mailed without equipment (individual batteries) must be enclosed in strong outer packaging, and must be marked with:

a. An indication that the package contains “lithium metal” or “lithium-ion” cells or batteries, as appropriate.

b. An indication that the package is to be handled with care and that a flammable hazard exits if the package is damaged.

c. An indication that special procedures must be followed in the event the package is damaged, to include inspection and repacking, if necessary.

d. A telephone number for additional information.

e. Mailpieces containing lithium metal batteries not installed in, or packaged with equipment must also bear a “Surface Mail Only, Lithium Metal Batteries — Forbidden for Transportation Aboard Passenger Aircraft” or “Surface Mail Only, Primary Lithium Batteries — Forbidden for Transportation Aboard Passenger Aircraft” marking.

f. Mailers may use a DOT-approved lithium battery handling label, in domestic air or surface transportation, to meet these marking requirements, provided all required elements are included.

Documentation

In addition to the marking requirements noted above, mailpieces containing lithium batteries packaged with equipment or mailed without equipment must be accompanied by a document that includes the following:

a. An indication that the package contains “lithium metal” or “lithium-ion” cells or batteries, as appropriate.

b. An indication that the package is to be handled with care and that a flammable hazard exits if the package is damaged.

c. An indication that special procedures must be followed in the event the package is damaged, to include inspection and repacking, if necessary.

d. A telephone number for additional information.

The specific revisions to Publication 52, Hazardous, Restricted, and Perishable Mail referenced in this notice will be published in Postal Bulletin 22408 on February 5, 2015, and can be viewed at http://about.usps.com/postal-bulletin. These revisions are expected to be incorporated into the Publication 52 on March 2, 2015. Publication 52 is provided in its entirety on Postal Explorer® at http://pe.usps.com/text/pub52/welcome.htm.

Stanley F. Mires,
Attorney, Federal Requirements.

[FR Doc. 2015-01346 Filed 1-23-15; 8:45 am]

BILLING CODE 7710-12-P